DEPARTMENT OF COMMERCE

National Oceanic and Atmospheric Administration

Proposed Information Collection; Comment Request; West Coast Region Pacific Tuna Fisheries Logbook and Fish Aggregating Device Form

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 6, 2017.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Shannon Penna, National Marine Fisheries Service (NMFS), West Coast Region (WCR) Long Beach Office, 501 West Ocean Blvd., Suite 4200, Long Beach, CA 90805, (562) 980-4036 or shannon.penna@noaa.gov.

SUPPLEMENTARY INFORMATION:

I. Abstract

This request is for an extension of a current information collection.

United States' (U.S.) participation in the Inter-American Tropical Tuna Commission (IATTC) results in certain record keeping requirements for U.S. vessel owners and operators who fish in the IATTC's area of management responsibility. Vessel owners and operators must maintain a log of all operations conducted from the fishing vessel, entering the date, noon position, and the tonnage of fish aboard by species. The purse seine bridge logbook provided by the IATTC is used by all United States purse seine vessel owners and operators. In addition, vessel owners and operators of large purse seine vessels (i.e., with at least 363 metric tons of fish hold volume) that fish with FADs in the Eastern Pacific Ocean (EPO) are required to collect data specific on fish aggregating devices (FADs) to meet international obligations under IATTC Resolution C-16-01. Owners and operators of a FAD would be required to record data for each interaction with a FAD through a FAD form provided by the IATTC or through a FAD form provided by NMFS that combines the bridge logbook with the FAD Form. Data collected from FADs will allow IATTC scientific staff to distinguish a particular FAD when analyzing data and can track the activities on a FAD through time.

II. Method of Collection

Vessel operators maintain bridge logs on a daily basis and FAD forms are completed for each FAD interaction. Bridge logs and FAD forms can be either emailed or mailed to the IATTC and also National Marine Fisheries Service (NMFS) Southwest Fisheries Science Center at the completion of each trip. These data are processed and maintained as confidential by the IATTC and by NMFS.

III. Data

OMB Control Number: 0648-0148.

Form Number(s): None.

Type of Review: Regular (extension of a current information collection).

Affected Public: Individuals or households; business or other for-profit organizations.

Estimated Number of Respondents: 21.

Estimated Time per Response: 5 minutes to complete bridge log; 10 minutes to complete FAD data collection requirements.

Estimated Total Annual Burden Hours: 746.

Estimated Total Annual Cost to Public: $21.56 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 30, 2016.
Sarah Brabson,
NOAA PRA Clearance Officer.

[FR Doc. 2016-32004 Filed 1-4-17; 8:45 am]

BILLING CODE 3510-22-P